DEPARTMENT OF JUSTICE

Notice of Lodging of Proposed First Partial Remedial Design/Remedial Action (RD/RA) Consent Decree Under CERCLA

On August 9, 2016, the Department of Justice lodged a proposed First Partial Remedial Design/Remedial Action (RD/RA) Consent Decree (“Consent Decree”) with the United States District Court for the District of New Mexico, in the lawsuit entitled United States and State of New Mexico, et al. v. Chevron Mining Inc., Civil Action No. 1:16-cv-00904.

The United States, on behalf of the U.S. Environmental Protection Agency, together with the State of New Mexico, filed this lawsuit under the Comprehensive Environmental Response, Compensation, and Liability Act of 1980 (“CERCLA”) against Chevron Mining Inc. (“CMI”). The Defendant, CMI, is the owner and operator of the Chevron Questa Mine Superfund Site (“Site”), an inactive Molybdenum mine, located in Taos County, New Mexico. The complaint requests recovery of costs that the United States incurred responding to releases of hazardous substances at the Site. Under the proposed settlement, CMI agrees to pay $5,269,949 in past costs, to perform certain aspects of the remedial action selected by EPA for the Site, which are estimated to cost over $143 million, and to pay EPA's future costs associated with oversight of that work. Other aspects of the remedy will proceed at a later date. In return, the United States agrees not to sue CMI under sections 106 and 107 of CERCLA or under section 7003 of the Resource Conservation and Recovery Act for the work that CMI has agreed to perform.

The publication of this notice opens a period for public comment on the Consent Decree. Comments should be addressed to the Assistant Attorney General, Environment and Natural Resources Division, and should refer to United States and State of Mexico, et al. v. Chevron Mining Inc., Civil Action No. 1:16-cv-00904, D.J. Ref. No. 90-11-3-10261. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

Under section 7003(d) of the Resource Conservation and Recovery Act (“RCRA”), 42 U.S.C. 6973, a commenter may request an opportunity for a public meeting in the affected area.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $36.00 (25 cents per page reproduction cost) payable to the United States Treasury. For a paper copy without the exhibits and signature pages, the cost is $11.50.

Jeffrey K. Sands,
Assistant Section Chief, Environmental Enforcement Section, Environment and Natural Resources Division.

[FR Doc. 2016-19335 Filed 8-12-16; 8:45 am]

BILLING CODE 4410-15-P